DEPARTMENT OF THE TREASURY

Submission for OMB Review; Comment Request

June 21, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 31, 2006 to be assured of consideration.

Internal Revenue Service (IRS)

OMB Number: 1545-0195.

Type of Review: Extension.

Title: Election to Postpone Determination as to Whether the Presumption Applies That an Activity Is Engaged in for Profit.

Form: Form 5213.

Description: The form is used by individuals, partnerships, estates trusts, and S corporations to make an election to postpone an IRS determination as to whether an activity is engaged in for profit for 5 years (7 years for breeding, training, or showing racing horses). The data is used to verify eligibility to make an election.

Respondents: Business or other for-profit and individuals or households.

Estimated Total Burden Hours: 2,762 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. 06-5808 Filed 6-28-06; 8:45 am]

BILLING CODE 4830-01-P